DEPARTMENT OF ENERGY

Federal Energy Regulatory Commission

[Docket No. EL05-53-000]

Southern Company Services, Inc.; Notice of Institution of Proceeding and Refund Effective Date

April 1, 2005.

On March 25, 2005, the Commission issued an order initiating a proceeding in Docket No. EL05-53-000 under section 206 and 307 of the Federal Power Act to provide Southern Company Services with an opportunity to explain to the Commission in a paper hearing: (1) Whether it is currently assessing operations and maintenance (O&M) charges to its customers, (2) whether its O&M rates for these interconnection agreements are properly on file with the Commission, (3) whether the rates (if they are on file) are just and reasonable, and (4) what is the appropriate remedy if Southern is collecting O&M charges contrary to the FPA. Southern Company Services, Inc. 110 FERC ¶61,362 (2005).

The refund effective date in Docket No. EL05-53-000, established pursuant to section 206 of the Federal Power Act, will be 60 days following publication of this notice in the Federal Register.

Magalie R. Salas,
Secretary.

[FR Doc. E5-1626 Filed 4-7-05; 8:45 am]

BILLING CODE 6717-01-P